DEPARTMENT OF DEFENSE

Office of the Secretary

Renewal of Department of Defense Federal Advisory Committees—Uniform Formulary Beneficiary Advisory Panel

AGENCY: Department of Defense (DoD).

ACTION: Renewal of Federal advisory committee.

SUMMARY: The DoD is publishing this notice to announce that it is renewing the Uniform Formulary Beneficiary Advisory Panel (UFBAP).

FOR FURTHER INFORMATION CONTACT: Jim Freeman, DoD Advisory Committee Management Officer, 703-692-5952.

SUPPLEMENTARY INFORMATION: The UFBAP is being renewed in accordance with the provisions of chapter 10 of title 5 United States Code (U.S.C.) (commonly known as “the Federal Advisory Committee Act” or “FACA”) and 41 Code of Federal Register (CFR) 102-3.50(a). The charter and contact information for the UFBAP's Designated Federal Officer (DFO) are found at https://www.facadatabase.gov/FACA/apex/FACAPublicAgencyNavigation.

Pursuant to 10 U.S.C. 1074g(c)(2), the UFBAP shall be composed of no more than 15 members and shall include members that represent: a. Nongovernmental organizations and associations that represent the views and interests of a large number of eligible covered beneficiaries; b. Contractors responsible for the TRICARE retail pharmacy program; c. Contractors responsible for the national mail-order pharmacy program; and d. TRICARE network providers.

The appointment of UFBAP members shall be approved by the Secretary of Defense and the Deputy Secretary of Defense (“the DoD Appointing Authority”) for a term of service of one-to-four years, with annual renewals, in accordance with DoD policy and procedures. No member, unless approved by the DoD Appointing Authority, may serve more than two consecutive terms of service on the UFBAP, or serve on more than two DoD Federal Advisory committees at one time. The DoD Appointing authority shall appoint the UFBAP's leadership from among the membership previously approved to serve on the UFBAP in accordance with DoD policy and procedures, for a term of service of one-to-two years, with annual renewal, not to exceed the member's approved UFBAP appointment.

UFBAP members who are not full-time or permanent part-time Federal civilian officers or employees, or active-duty members of the Armed Forces, shall be appointed as experts or consultants pursuant to 5 U.S.C. 3109 to serve as special government employee members. UFBAP members who are full-time or permanent part-time Federal civilian officers or employees, or active-duty members of the Armed Forces, shall be appointed pursuant to 41 CFR 102-3.130(a) to serve as regular government employee members. All UFBAP members are appointed to exercise their own best judgment on behalf of the DoD, without representing any particular points of view, and to discuss and deliberate in a manner that is free from conflicts of interest. With the exception of reimbursement of official UFBAP-related travel and Per diem, UFBAP members serve without compensation.

The public or interested organizations may submit written statements to the UFBAP about the UFBAP's mission and functions. Written statements may be submitted at any time or in response to the stated agenda of planned meeting of the UFBAP. All written statements shall be submitted to the DFO for the UFBAP, and this individual will ensure that the written statements are provided to the membership for their consideration.

Dated: July 26, 2024.
Patricia L. Toppings,
OSD Federal Register Liaison Officer, Department of Defense.

[FR Doc. 2024-16974 Filed 7-31-24; 8:45 am]

BILLING CODE 6001-FR-P